DEPARTMENT OF HEALTH AND HUMAN SERVICES

Request for Nominations of Members to the Advisory Committee on Blood Safety and Availability

AGENCY: Office of the Secretary, HHS.

ACTION: Announcement of request for membership nominations.

SUMMARY: The Office of the Secretary requests nomination of individuals to serve on the Advisory Committee on Blood Safety and Availability in accordance with its charter. Appointments will be made for a term of four years. Individuals nominated after June 1, 2000 will remain under consideration for these appointments.

DATES: All nominations must be received at the address below no later than 4 p.m. EDT August 31, 2001.

ADDRESSES: All nominations shall be submitted to Stephen D. Nightingale, M.D., Executive Secretary, Advisory Committee on Blood Safety and Availability, Office of Public Health and Science, Department of Health and Human Services, 200 Independence Ave., SW., Washington, DC 20201. Phone (202) 690-5560.

FOR FURTHER INFORMATION CONTACT: Stephen D. Nightingale, M.D., Executive Secretary, Advisory Committee on Blood Safety and Availability, Office of Public Health and Science, Department of Health and Human Services, Room 736-E, 200 Independence Ave., SW., Washington, DC 20201. Phone (202) 690-5560.

Nominations: In accordance with the charter of the Committee, persons nominated for membership should be from among authorities knowledgeable in blood banking, transfusion medicine, bioethics and/or related disciplines. Members shall be selected from State and local organizations, blood and blood products industry including manufacturers and distributors, advocacy groups, consumer advocates, provider organizations, academic researchers, ethicists, private physicians, scientists, consumer advocates, legal organizations and from among communities of persons who are frequent recipients of blood and blood products.

Information Required: Each nomination shall consist of a package that, at a minimum, includes:

A. The name, return address, daytime telephone number and affiliation(s) of the individual being nominated, the basis for the individual's nomination, the category for which the individual is nominated, and a statement bearing an original signature of the nominated individual that he or she is willing to serve as a member of the committee;

B. The name, return address, daytime telephone number at which the nominator may be contacted. Organizational nominators must identify a principal contact person in addition to the contact person in addition to the contact information; and

C. A copy of the nominee's curriculum vitae.

The Department of Health and Human Services has a strong interest in ensuring that women, minority groups, and physically challenged individuals are adequately represented on the Committee and, therefore, encourages nomination of qualified candidates from these groups. The Department also encourages geographic diversity in the composition of the Committee.

Individuals should feel free to nominate themselves. All nomination information for a nominee must be provided in a complete single package. Incomplete nominations will not be processed. Nomination materials must bear original signatures, and facsimile transmission or copies are not acceptable.

Dated: May 21, 2001.
Stephen D. Nightingale,
Executive Secretary, Advisory Committee on Blood Safety and Availability.

[FR Doc. 01-13745 Filed 5-31-01; 8:45 am]

BILLING CODE 4150-28-M